DEPARTMENT OF HOMELAND SECURITY

U.S. Citizenship and Immigration Services

[CIS No. 2530-12; DHS Docket No. USCIS-2012-0009]

RIN 1615-ZB14

Extension of the Re-registration Period for Haiti Temporary Protected Status

AGENCY: U.S. Citizenship and Immigration Services, Department of Homeland Security.

ACTION: Notice; Extension of Re-registration Period.

SUMMARY: On October 1, 2012, the Secretary of Homeland Security (Secretary) extended the designation of Haiti for Temporary Protected Status (TPS) for a period of 18 months by notice in the Federal Register. The Department of Homeland Security (DHS) established a 60-day re-registration period from October 1, 2012 through November 30, 2012. Due to the effects of Hurricane Sandy on many TPS beneficiaries' ability to timely file for re-registration, DHS is extending the re-registration period through January 29, 2013 through this Notice.

DATES: DHS extended Haiti TPS on October 1, 2012. The re-registration period that was to expire on November 30, 2012, will be extended with a new filing deadline of January 29, 2013.

FOR FURTHER INFORMATION CONTACT: • For further information on TPS, including guidance on the application process and additional information on eligibility, please visit the USCIS TPS Web page at http://www.uscis.gov/tps. You can find specific information about the extension of Haiti for TPS and the extension of the re-registration period by selecting “TPS Designated Country: Haiti” from the menu on the left of the TPS Web page. On the Haiti TPS Web page, there is a link to the Federal Register notice at 77 FR 59943 (October 1, 2012) that provides detailed information and procedures to re-register for Haiti TPS.

• You can also contact the TPS Operations Program Manager at the Family and Status Branch, Service Center Operations Directorate, U.S. Citizenship and Immigration Services, Department of Homeland Security, Mail Stop 2060, Washington, DC 20529-2060; or by phone at (202) 272-1533 (this is not a toll-free number). Note: The phone number provided here is solely for questions regarding this TPS notice. It is not for individual case status updates.

• Applicants seeking information about the status of their individual cases can check Case Status Online, available at the USCIS Web site at http://www.uscis.gov, or call the USCIS National Customer Service Center at 800-375-5283 (TTY 800-767-1833). Service is available in English and Spanish only.

• Further information will also be available at local USCIS offices upon publication of this Notice.

SUPPLEMENTARY INFORMATION:

When did the Secretary extend the TPS designation for Haiti?

On October 1, 2012, the Secretary extended the TPS designation for Haiti for a period of 18 months by notice in the Federal Register. See 77 FR 59943. The extension is effective from January 23, 2013 through July 22, 2014.

Why is the Secretary extending the re-registration period for Haitian TPS beneficiaries?

Due to the disruptive effects of Hurricane Sandy across the Northeastern region of the United States, DHS is extending the re-registration period through January 29, 2013. DHS recognizes that Haitian TPS beneficiaries affected by the hurricane may require additional time to prepare a re-registration application and to gather either the funds to cover the re-registration fees or the documentation to support a fee waiver request.

Janet Napolitano,
Secretary.

[FR Doc. 2012-31032 Filed 12-27-12; 8:45 am]

BILLING CODE 9111-97-P